DEPARTMENT OF TRANSPORTATION

Federal Aviation Administration

14 CFR Part 39

[Docket No. 2002-NM-91-AD; Amendment 39-13829; AD 2004-22-01]

RIN 2120-AA64

Airworthiness Directives; Various Transport Category Airplanes on Which Cargo Restraint Strap Assemblies Have Been Installed per Supplemental Type Certificate (STC) ST01004NY

AGENCY: Federal Aviation Administration, DOT.

ACTION: Final rule.

SUMMARY: This amendment adopts a new airworthiness directive (AD), applicable to various transport category airplanes on which cargo restraint strap assemblies have been installed per STC ST01004NY. This amendment requires revising the airplane flight manual to include a procedure for discontinuing the use of certain cargo restraint strap assemblies installed per STC ST01004NY, if used as the only cargo restraint. This amendment also requires revising the airplane weight and balance manual to include the same procedure described previously. The actions specified by this AD are intended to prevent shifting or unrestrained cargo in the cargo compartment, which could cause an unexpected change in the airplane's center of gravity, damage to the airplane structure and/or flight control system, a hazard to the flightcrew, and/or possible loss of controllability of the airplane. This action is intended to address the identified unsafe condition.

DATES: Effective December 1, 2004.

ADDRESSES: Information pertaining to this AD may be examined at the Federal Aviation Administration (FAA), Transport Airplane Directorate, Rules Docket, 1601 Lind Avenue, SW., Renton, Washington.

FOR FURTHER INFORMATION CONTACT: Jon Hjelm, Aerospace Engineer, Airframe and Propulsion Branch, ANE-171, FAA, New York Aircraft Certification Office, 1600 Stuart Ave., suite 410, Westbury, New York 11590; telephone (516) 228-7323; fax (516) 794-5531.

SUPPLEMENTARY INFORMATION: A proposal to amend part 39 of the Federal Aviation Regulations (14 CFR part 39) to include an airworthiness directive (AD) that is applicable to various transport category airplanes on which cargo restraint strap assemblies have been installed per STC ST01004NY was published as a supplemental notice of proposed rulemaking (NPRM) in the Federal Register on August 4, 2004 (69 FR 47028). That action proposed to require revising the airplane flight manual (AFM) to include a procedure for discontinuing the use of certain cargo restraint strap assemblies installed per STC ST01004NY, if used as the only cargo restraint. That action also proposed to add a requirement to revise the airplane weight and balance manual (WBM) to include the same procedure described previously.

Comments

Interested persons have been afforded an opportunity to participate in the making of this amendment. No comments were submitted in response to the proposal or the FAA's determination of the cost to the public.

Conclusion

The FAA has determined that air safety and the public interest require the adoption of the rule as proposed.

Cost Impact

There are approximately 1,150 transport category airplanes of the affected design in the worldwide fleet. We estimate that 735 airplanes of U.S. registry will be affected by this AD.

It will take approximately 1 work hour per airplane to accomplish the AFM revision, at an average labor rate of $65 per work hour. Based on these figures, the cost impact of the AFM revision on U.S. operators is estimated to be $47,775, or $65 per airplane.

It will take approximately 1 work hour per airplane to accomplish the WBM revision, at an average labor rate of $65 per work hour. Based on these figures, the cost impact of the WBM revision on U.S. operators is estimated to be $47,775, or $65 per airplane.

The cost impact figures discussed above are based on assumptions that no operator has yet accomplished any of the proposed requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2004-22-01 Transport Category Airplanes: Amendment 39-13829. Docket 2002-NM-91-AD.

Applicability: The following transport category airplanes, certificated in any category, on which cargo restraint strap assemblies part number (P/N) 1519-MCIDS have been installed per Supplemental Type Certificate (STC) ST01004NY:

Table 1.—Manufacturers/Airplane Models
Manufacturer | Airplane model
Aerospatiale | ATR42 and ATR72 series airplanes.
Airbus | A300 B2 and A300 B4 series airplanes; A300 B4-600, A300 B4-600R, and A300 F4-600R (collectively called A300-600) series airplanes; A310, A320, A321, A330, and A340 series airplanes.
Boeing | 707-100, 707-200, 707-100B, and 707-100B series airplanes; 727, 737, 747, 757, and 767 series airplanes.
British Aerospace | BAe 146 series airplanes and Avro 146-RJ series airplanes.
Fokker | F27 and F.28 series airplanes.
Lockheed | 188A and 188C airplanes, and L-1011 series airplanes.
Maryland Air Industries, Inc. | F-27 series airplanes and FH-227 series airplanes.
McDonnell Douglas | DC-7, DC-7B, and DC-7C airplanes; DC-8-11, DC-8-12, DC-8-21, DC-8-31, DC-8-32, DC-8-33, DC-8-41, DC-8-42, and DC-8-43 airplanes; DC-8-51, DC-8-52, DC-8-53, and DC-8-55 airplanes; DC-8F-54 and DC-8F-55 airplanes; DC-8-61, DC-8-62, and DC-8-63 airplanes; DC-8-61F, DC-8-62F, and DC-8-63F airplanes; DC-8-71, DC-8-72, and DC-8-73 airplanes; DC-8-71F, DC-8-72F, and DC-8-73F airplanes; DC-9-11, DC-9-12, DC-9-13, DC-9-14, DC-9-15, and DC-9-15F airplanes; DC-9-21 airplanes; DC-9-31, DC-9-32, DC-9-32 (VC-9C), DC-9-32F, DC-9-33F, DC-9-34, DC-9-34F, DC-9-41, DC-9-51, DC-9-81 (MD-81), DC-9-82 (MD-82), DC-9-83 (MD-83), and DC-9-87 (MD-87) airplanes; MD-88 airplanes; MD-90-30 airplanes; 717-200 airplanes; DC-10-10 and DC-10-10F airplanes; DC-10-15 airplanes; DC-10-30 and DC-10-30F (KDC-10) airplanes; DC-10-40 and DC-10-40F airplanes; MD-10-10F and MD-10-30F airplanes; and MD-11 and MD-11F airplanes.

Compliance: Required as indicated, unless accomplished previously. To prevent shifting or unrestrained cargo in the cargo compartment, which could cause an unexpected change in the airplane's center of gravity, damage to the airplane structure and/or flight control system, a hazard to the flightcrew, and/or possible loss of controllability of the airplane, accomplish the following:

Revisions to Airplane Flight Manual (AFM) and Weight and Balance Manual (WBM)

(a) Within 14 days after the effective date of this AD, revise the Limitations Section of the applicable AFM, and the cargo-loading procedures in the applicable WBM, to include the following information (this may be accomplished by inserting a copy of this AD into the AFM and the WBM):

“Discontinue the use of Supplemental Type Certificate (STC) ST01004NY to install Airline Container Manufacturing Company, Inc., cargo restraint straps, part number 1519-MCIDS, as the only means of securing cargo to Technical Standard Order (TSO) C90c/NAS3610 pallets. Such cargo restraint straps may continue to be used as supplemental restraints to secure cargo to TSO C90c/NAS3610 pallets, or to the cargo restraint fittings in the airplane floor, per the airplane manufacturer's weight and balance manuals, and within the strap rated load (5,000 lbs.).”

Note 1: If the statement in paragraph (a) of this AD has been incorporated into the general revisions of the AFM and the WBM, the general revisions may be incorporated into the AFM and the WBM, and the copy of this AD may then be removed from the AFM and the WBM.

Alternative Methods of Compliance

(b) In accordance with 14 CFR 39.19, the Manager, New York Aircraft Certification Office, FAA, is authorized to approve alternative methods of compliance for this AD.

Effective Date

(c) This amendment becomes effective on December 1, 2004.

Issued in Renton, Washington, on October 18, 2004.
Kalene C. Yanamura,
Acting Manager, Transport Airplane Directorate, Aircraft Certification Service.

[FR Doc. 04-24031 Filed 10-26-04; 8:45 am]

BILLING CODE 4910-13-P